DEPARTMENT OF COMMERCE

National Institute of Standards and Technology

Notice of Public Workshop: “Designing for Impact: Workshop on Building the National Network for Manufacturing Innovation”

AGENCY: Advanced Manufacturing National Program Office, National Institute of Standards and Technology, Department of Commerce.

ACTION: Notice.

SUMMARY: The Advanced Manufacturing National Program Office (AMNPO), housed at the National Institute of Standards and Technology (NIST), announces the second workshop in a series of public workshops entitled “Designing for Impact: Workshop on Building the National Network for Manufacturing Innovation.” This workshop series provides a forum for the AMPNO to introduce the National Network for Manufacturing Innovation (NNMI) and its regional components, Institutes for Manufacturing Innovation (IMIs) and for public discussion of this new initiative that was announced by President Obama on March 9, 2012 ¹. The discussion at the workshop will focus on the following topics: Technologies with Broad Impact, Institute Structure and Governance, Strategies for Sustainable Institute Operations, and Education and Workforce Development. The Designing for Impact workshop series is organized by representatives from the Department of Commerce, NIST; Department of Defense; Department of Energy; National Aeronautics and Space Administration; and National Science Foundation.

¹ http://www.whitehouse.gov/the-press-office/2012/03/09/remarks-president-manufacturing-and-economy.

DATES: The second public workshop in this series will be held on Monday, July 9, 2012 from 8:00 a.m. until 4:30 p.m. Eastern time. Event check-in will open at approximately 7:00 a.m. Eastern time. On-line sign-up for the workshop will close at 5:00 p.m. Eastern time on Tuesday, July 2, 2012.

ADDRESSES: The second public workshop in this series will be held at Corporate College East, 4400 Richmond Road, Warrensville Hts., OH 44128. Corporate College East is located on the campus of Cuyahoga Community College. Members of the public wishing to attend the public workshop must sign-up in advance and must do so online at: http://eventgov.com/NNMIworkshop2Cleveland.

FOR FURTHER INFORMATION CONTACT: Michael Schen, (301) 975-6741, michael.schen@nist.gov; or Prasad Gupte, (301) 975-5062, prasad.gupte@nist.gov; or Carol Tolbert, (216) 433-6167, carol.m.tolbert@nasa.gov. Additional information may also be found at: http://manufacturing.gov/amp/cleveland2012.html.

SUPPLEMENTARY INFORMATION:

Legal Authority: 15 U.S.C. 272(b)(1).

The proposed NNMI initiative focuses on strengthening and ensuring the long-term competitiveness and job-creating power of U.S. manufacturing. The constituent IMIs will bring together industry, universities and community colleges, federal agencies, and U.S. states to accelerate innovation by investing in industrially-relevant manufacturing technologies with broad applications to bridge the gap between basic research and product development, provide shared assets to help companies—particularly small manufacturers—access cutting-edge capabilities and equipment, and create an unparalleled environment to educate and train students and workers in advanced manufacturing skills. The President's proposed FY 2013 budget includes $1 billion for this proposed initiative.

Each IMI will serve as a regional hub of manufacturing excellence, providing the innovation infrastructure to support regional manufacturing and ensuring that our manufacturing sector is a key pillar in an economy that is built to last. Each IMI also will have a well-defined technology focus to address industrially-relevant manufacturing challenges on a large scale and to provide the capabilities and facilities required to reduce the cost and risk of commercializing new technologies.

In his March 9, 2012 announcement, President Obama proposed building a national network consisting of up to 15 IMIs.

On December 15, 2011, Commerce Secretary John Bryson announced the Advanced Manufacturing National Program Office (AMNPO) that is hosted by the National Institute of Standards and Technology (NIST) ². The AMNPO is charged with convening and enabling industry-led, private-public partnerships focused on manufacturing innovation and engaging U.S. universities; and designing and implementing an integrated “whole of government” advanced manufacturing initiative to facilitate collaboration and information sharing across federal agencies.

² http://www.commerce.gov/news/press-releases/2011/12/16/commerce-secretary-john-bryson-lays-out-vision-department-commerce.

The AMNPO coordinated and held the first “Designing for Impact: Workshop on Building the National Network for Manufacturing Innovation” on April 25, 2012, at Rensselaer Polytechnic Institute in Troy, New York. On May 4, 2012 the AMNPO issued a Request for Information (RFI), seeking public comment on specific questions related to the structure and operations of the NNMI and IMIs. The RFI was published in the Federal Register and may be found at: http://www.gpo.gov/fdsys/pkg/FR-2012-05-04/pdf/2012-10809.pdf. Comments in response to the RFI are due on or before 11:59 p.m. Eastern Time on October 25, 2012.

Individuals planning to attend the second public workshop must sign-up in advance. See sign-up information in the DATES and ADDRESSES sections above.

Announcements of additional workshops may be found at: http://www.manufacturing.gov/amp/ampevents.html. Future workshops will also be announced in the Federal Register.

Dated: May 31, 2012.
Phillip Singerman,
Associate Director for Innovation and Industry Services.

[FR Doc. 2012-13945 Filed 6-7-12; 8:45 am]

BILLING CODE 3510-13-P